DEPARTMENT OF LABOR

Employment and Training Administration

Planning Guidance and Instructions for Submission of Two Years of the Strategic Five-Year State Plan for Title I of the Workforce Investment Act of 1998 and the Wagner-Peyser Act

AGENCY: Employment and Training Administration.

ACTION: Notice.

SUMMARY: The purpose of this notice is to provide interested parties with the planning guidance for use by States in submitting two years of their Strategic Five-Year State Plan for Title I of the Workforce Investment Act of 1998 and the Wagner-Peyser Act. The Planning Guidance and Instructions provide a framework for the collaboration of Governors, Local Elected Officials, businesses and other partners to continue the development of workforce investment systems that address customer needs, deliver integrated, user-friendly services; and are accountable to the customers and the public.

FOR FURTHER INFORMATION CONTACT: Ms. Gay Gilbert, Administrator, Office of Workforce Investment, U.S. Department of Labor, 200 Constitution Avenue, NW., Room S-4231, Washington, DC 20210. Telephone: (202) 693-3980 (voice) (This is not a toll free number) or (202) 693-7755 (TTY). Information may also be found at the Web site— http://www.doleta.gov/usworkforce.

SUPPLEMENTARY INFORMATION: The Workforce Investment Act (WIA or Act), Pub. L. 105-220 (August 7, 1998) provides the framework for a reformed workforce investment system designed to meet the needs of the nation's employers, job seekers and those who want to further their careers.

In the context of the 21st century innovation economy, the workforce investment system has a critical role to play at every level “ local, State, and Federal—to ensure a skilled and competitive workforce. To effectively drive the economic growth of our communities and the nation and to provide the workers of this country with the right skills and opportunities for good jobs with good pay and career pathways, the public investments in workforce development need to be strategic. Strategies for investment need to embrace new methods of engagement with strategic partners as well as new service delivery paradigms that address the ever changing economy and labor market. Innovation and technology are continuously changing the nature of work at an accelerated pace. Therefore, the strategic planning process for workforce investment must be dynamic, fluid, and future oriented.

The Workforce Investment Act (WIA) of 1998 created dramatic changes to the workforce system. With the overarching goal to streamline, consolidate, and integrate a wide array of employment and training programs, system changes spanned every facet of operation including governance, administration and funding, and service delivery. The vision is for an integrated workforce investment system better able to respond to the needs of its customers. The framework of WIA embodies principles that remain critical to the strategic planning process in today's economy.

Since the passage of WIA, the workforce investment system broadly has made great strides in implementing the principles described above. However, there remains significant opportunity for States and local areas to utilize the framework of WIA to realize the vision these principles reflect. The changes in the WIA State planning process reflected in this document are intended to facilitate a realization of that vision as well as to set the stage for the planning process in the context of the 21st century economy.

Signed at Washington, DC this 5th day of April, 2005.
Emily Stover DeRocco,
Assistant Secretary of Labor, Employment and Training Administration.

State Planning Guidance and Instructions for Title I of the Workforce Investment Act of 1998 (Workforce Investment Systems) and Wagner-Peyser Act

Statement of Purpose

The purpose of this document is to provide planning guidelines to States and localities for the development of the Strategic Five-Year State Plan for title I of the Workforce Investment Act of 1998 (WIA) and the Wagner-Peyser Act (hereinafter referred to as the State Plan.) The State Plan is required in order for States to receive formula allotments under the Act. The current Strategic Five-Year State Plans expire June 30, 2005. The Department of Labor is anticipating the reauthorization of WIA within the next two years. To meet the requirement that States must have approved State plans in place to receive allotments, the Employment and Training Administration (ETA) is requiring states to only develop a plan for the first two years of the five year strategic planning cycle. This will allow States to strategically approach their workforce investment policies for the immediate future, without requiring a full five year strategic plan, in light of the anticipated reauthorization of WIA. The information required in the Plan is requested in order to meet the information requirements of the act and/or to demonstrate compliance with WIA, the WIA regulations, including 29 CFR part 37, the Wagner-Peyser Act, and the Wagner-Peyser Act regulations.

Background

The Planning Guidance and Instructions provide a framework for the collaboration of Governors, Local Elected Officials, businesses and other partners to design and build workforce investment systems that address customer needs; deliver integrated, user-friendly services; and are accountable to the customers and the public. The document is organized in two distinct sections. The first section of the document is devoted to providing strategic guidance from a national perspective and communicates the current goals and strategic direction for the workforce system of the U.S. Department of Labor. The second section of the document is the actual format and guidance related to content for submission of the State Plan.

The Department of Labor sees as one of its primary roles providing leadership and guidance to support a system that meets the objectives of title I of WIA, and in which State and local partners have flexibility to design systems and deliver services in a manner designed to achieve the goals for WIA based on their particular needs.

Part I. National Strategic Direction

The purpose of this portion of the document is to communicate national direction and strategic priorities for the workforce investment system. Broadly, the Federal goals for the workforce investment system for this planning cycle include:

○ Realizing the reforms envisioned by the Workforce Investment Act including:

• Integrated, seamless service delivery through comprehensive One-Stop Career Centers;

• A demand-driven workforce system governed by business-led workforce investment boards;

• Maximum flexibility in tailoring service delivery and making strategic investment in workforce development activities to meet the needs of State and local economies and labor markets;

• Customers making informed choices based on quality workforce information and accessing quality training providers;

• Increased fiscal and performance accountability; and

• A youth program targeting out-of-school populations with increased accountability for employment and/or increased secondary and post-secondary education outcomes.

○ Incorporating new statutory and regulatory program requirements that have evolved since the passage of WIA, such as priority of service for veterans as prescribed by the Jobs for Veterans Act (Pub. L. 107-288), (38 U.S.C. 4215).

○ Providing the national strategic priorities and direction in the following areas:

• Implementation of a demand-driven workforce system;

• System reform to eliminate duplicative administrative costs and to enable increased training investments;

• Enhanced integration of service delivery through One-Stop delivery systems nationwide;

• A refocusing of the WIA youth investments on out-of-school youth populations, collaborative service delivery across Federal programs, and increased accountability;

• Improved development and delivery of workforce information to support workforce investment boards in their strategic planning and investments; providing tools and products that support business growth and economic development; and providing quality career guidance directly to students and job seekers and their counselors through One-Stop Career Centers;

• Faith-based and community-based organizations playing an enhanced role in workforce development;

• Enhanced use of waivers and workflex provisions in WIA to provide greater flexibility to States and local areas in structuring their workforce investment systems; and

• Reporting against common performance measures across Federal employment and training programs.

Demand-Driven Workforce Investment System

The realities of today's global economy make it imperative that the workforce investment system be demand-driven, providing services that prepare workers to take advantage of new and increasing job opportunities in high growth/high demand and economically vital industries and sectors of the American economy. The foundation of this effort is partnerships that include the workforce system, business and industry, and education and training providers, that develop and implement a strategic vision for economic development. Becoming demand-driven represents a major transformation of this system, which, for 40 years, framed around individuals needs for service rather than focusing on both the needs of job seekers and the business community.

To be successful, the workforce investment system must begin today to prepare the workforce of tomorrow. Each year, the United States invests approximately $15 billion in the workforce system. To ensure that this large investment is used effectively, it is imperative that all of the components of the workforce system at the national, State, and local levels become demand-driven and contribute to the economic well-being of communities and the nation by developing a qualified and competitive workforce. Current job opportunities must be known as well as where the good jobs will be in the future by (1) identifying the workforce needs in high-growth, high-demand and economically critical industries and the necessary preparation required to succeed in those occupations and (2) understanding the workforce challenges that must be addressed to ensure a prepared and competitive workforce. This requires all of the key players in the State and local system, including Governors and Local Elected Officials, State and Local Workforce Investment Boards (WIBs), State Workforce Agencies, and One-Stop Career Centers to:

• Have a firm grasp of their State and local economies;

• Strategically invest and leverage their resources;

• Build partnerships between industry leaders and educational institutions that develop solutions to workforce challenges; and

• Allocate training dollars to provide the skills and competencies necessary to support industry now and in the future.

The workforce investment system is a catalyst that links employers, economic development organizations, public agencies, and the education community to build and deliver innovative answers to workforce challenges.

Development of a demand driven strategic plan requires utilizing economic information and analysis to drive strategic investments, identifying strategic partners, and designing effective service delivery systems. Some of the important elements of a demand-driven strategic plan include the following:

• Economic analysis is a fundamental starting point for a demand-driven approach to workforce investment. A wide array of workforce information and data, including economic indicators, labor market information, census data, educational data, transactional data, projections and data from the private sector, and one-on-one interviews with businesses needs to be collected and analyzed.

• Workforce strategies that target industries that are high growth, high demand and critical to the State and/or local economy are most likely to support economic growth and provide individuals with the opportunities to get good jobs with good pay and career pathways.

• Strategic partnerships among the workforce investment system, targeted businesses and industries, economic development agencies, and education and training providers (including K-12) provide a strong foundation for identifying workforce challenges and developing and implementing innovative workforce solutions focused on a workforce with the right skills. The workforce system must be the catalyst for bringing these target partnerships together.

• A solutions-based approach that brings the right strategic partners and resources to the table promotes a comprehensive analysis of workforce challenges and also provides the synergy for successful, innovative workforce solutions and the opportunity to leverage workforce investment resources effectively.

• A demand-driven workforce investment system ensures that the full array of assets available through the One-Stop delivery system is available to support individual workers as well as to provide solutions to workforce issues identified by business and industry.

• Translating the demand for workers with the skills businesses need into demand-driven career guidance must be one of the human resource solutions provided broadly by the workforce investment system.

The proposed State planning guidance includes new language in support of these principles which offers States an opportunity, in the context of the State planning process, to articulate formally demand-driven goals and strategies tailored to the unique needs of the State.

System Reform and Increased Focus on Training

Workforce training is one of the major areas in which the President is focusing reform efforts. In April 2004, he challenged the workforce investment system at the State and local levels to eliminate unnecessary overhead costs and simplify administration in order to preserve more resources for training. The system currently spends approximately 30% of appropriated funds each year on infrastructure and “other” costs as currently reported by States as part of their routine reporting under WIA. Some of these funds are wisely spent, but clearly more can be made available for training. The President has called for the system to double the number of individuals trained under WIA. Through WIA reauthorization, additional reforms in support of these goals are anticipated.

1. The WIA State Plan provides States with a platform to promote greater efficiencies in the workforce system by articulating administrative policies for State and local governance processes. The State has multiple vehicles to increase consolidation and integration of the infrastructure through policies, required practices, provision of technical assistance and monitoring. The State also can articulate its goals for expenditure of resources for training in industries and occupations critical to the State's economy.

Enhanced Integration Through One-Stop Delivery System

One of the primary expectations of the workforce system under the WIA statutory framework is a seamless, integrated One-Stop delivery system. The expectation for an integrated service delivery system remains firmly embedded as a key principle of a demand-driven workforce system.

The goal of integration is to ensure that the full spectrum of community assets is used in the service delivery system to support human capital solutions for businesses, industry and individual customers. Different programs fund different types of services and serve different populations. These unique program features in the system provide both breadth and depth to the human capital solutions offered to businesses and industry. However, the assets go beyond program funding, and without integration of those assets as well, the system limits its impact and success.

The workforce system has had a vision of integration for over a decade, supported with the Federal investment in One-Stop Centers in the mid-1990s and later realized in statute with the passage of WIA. Despite many efforts, the vision of seamless, integrated service delivery remains unrealized in many areas. It is still all too common to visit local areas across the nation and find a One-Stop office within blocks of a separate “job service” or “affiliate” office or a comprehensive One-Stop Center where programs are co-located, but with little integration. In addition, there is often a lack of consistency in policy and service delivery across workforce investment areas within a State, which causes customer confusion and frustration. While there are real challenges to achieving the vision of integration, it is a vision that can be realized. Due to strong leadership, creativity, and hard work at the State and local levels, a number of One-Stop Centers have overcome turf issues and administrative challenges to offer integrated service delivery.

Strong State leadership has been identified as one of the key success factors in achieving integration in One-Stop Centers. The WIA State planning process offers a unique opportunity for the Governor and the State workforce investment board to clearly articulate the State's goals for integration and to help remove any barriers. The Employment and Training Administration (ETA) is committed to working with States to support integration efforts.

A New Vision for Serving Youth Most in Need

The Administration is committed to bold, innovative and flexible initiatives to prepare the most at-risk and neediest youth for jobs in our changing economy. ETA, in collaboration with the Departments of Education, Health and Human Services, and Justice, have developed a new strategic vision to more effectively and efficiently serve out-of'school youth and those at risk of dropping out of school (Training and Employment Guidance Notice No. 3-04). Regional Youth Forums were conducted in the fall of 2004 that brought together State youth leaders to develop similar partnerships at the State level, and to begin to develop a common vision and action plan for implementing cross-agency State approaches for serving the neediest youth.

Out-of-school youth (and those most at risk of dropping out) are an important part of the new workforce supply pipeline needed by businesses to fill job vacancies in a knowledge-based economy. WIA-funded youth programs should connect these youth with quality secondary and post-secondary educational opportunities and high-growth and other employment opportunities.

ETA's new vision for serving youth will present challenges for how State and local WIA programs interact and link with State and local education and economic development systems. To achieve this vision, States should consider this new strategic approach and associated goals across four major areas:

➯ Alternative Education—Goal: Provide leadership to ensure that youth served in alternative education programs will receive a high quality education that adheres to the State standards developed in response to the No Child Left Behind (NCLB) legislation.

➯ Demand of Business—Goal: The investment of WIA youth resources will be demand-driven, assuring that youth obtain the skills needed by businesses so that they can succeed in the 21st century economy.

➯ Neediest Youth—Goal: Investments will be prioritized to serve youth most in need including out-of-school youth (and those at risk of dropping out of school), youth in foster care, those aging out of foster care, youth offenders, children of incarcerated parents, homeless youth, and migrant and seasonal farmworker youth.

➯ Improved Performance—Goal: Key initiatives will be implemented to assure that programs are performance-based and focused on outcomes.

ETA has developed strategic partnerships at the Federal level with the Department of Education's Office of Vocational and Adult Education, the Department of Health and Human Services' Administration for Children and Families, and the Department of Justice's Office of Juvenile Justice and Delinquency Prevention. Through the State planning process, Governors have the opportunity to promote strategic partnerships across State agencies serving youth to enhance service delivery and more effectively leverage available resources.

ETA encourages Governors to play a key leadership role in enhancing intra-State coordination among youth serving agencies and to develop cross-agency approaches for serving youth. The WIA State planning process is a vehicle for driving a Statewide youth vision that ensures that previously marginalized youth become an important pipeline of workers that helps drive the State's economy.

A Stronger Workforce Information System

As discussed previously, a strong foundation of economic data and workforce information, along with the ability to analyze the data and transform it into easily understood intelligence, is one of the keys to effective strategic planning for a demand-driven workforce investment system. To achieve that vision, the workforce system needs to move beyond traditional labor market information strategies and develop a workforce information system that helps drive both economic development and workforce investment for the State. In their lead role, States need to embrace a wide array of data sources, new strategies for making it available to customers, and consider alternative ways to invest and leverage public and private resources to build the State's workforce information system.

Workforce information is critical not only for driving the investments of the workforce system, but it is also a fundamental decision tool for the nation's businesses, students, workers, parents, guidance counselors, and education institutions. The development of workforce information is the responsibility broadly of Governors, State workforce agencies, State agencies designated under WIA as responsible for labor market information, State economic development agencies, and local workforce investment boards. A better alignment of information producers, brokers, and consumers both inside and outside the publicly funded workforce system must occur.

Effective Utilization of Faith-Based and Community Based Organizations

President Bush signed Executive Order 13198 on January 29, 2001, with the goal of removing statutory, regulatory, and procedural barriers that prevent faith-based and community organizations (FBCOs) from participating in the provision of social services. The Department of Labor Center for Faith-based and Community Initiatives, created under the Executive Order, has worked closely with ETA to help increase the opportunities for FBCOs to partner with the workforce investment system. As legal and regulatory barriers have been removed, the Department of Labor has been increasingly focusing on ways to integrate FBCOs into the WIA system at the local level including:

• Expanding the access of faith-based and community organizations' clients and customers to the training, job and career services offered by the local One-Stop Centers;

• Increasing the number of faith-based and community organizations serving as committed and active partners in the One-Stop delivery system.

By integrating the workforce system with the resources available through these organizations, the capacity of the workforce investment system to serve those most in need is significantly expanded. Continuing to promote integration of FBCOs remains a focal point for the President and the Department of Labor. States are encouraged to incorporate strategies that include FBCOs into their State Plans.

Increased Use of Flexibility Provisions in WIA

For the workforce system to be successful in promoting business prosperity and employment opportunities for workers, States must have the flexibility to design innovative programs based on local need and labor markets. WIA as it exists today provides significant opportunities to States to obtain waivers of statutory and regulatory requirements that may impede achieving the State's workforce goals. Therefore, one of the key focal points as States move into a new planning cycle is to encourage States to utilize the full range of flexibility offered under WIA's waiver and workflex provisions. The workflex option has not been utilized by States and may offer the greatest range of opportunity for States. ETA is committed to sharing the waiver strategies States have utilized to date and providing technical assistance to States considering requesting waivers. The State planning guidance is a vehicle for the State to identify waiver opportunities and to formally request waivers in concert with overall strategic planning. Waivers may be requested at other times as well. (Approved waivers are on the DOLETA automated waiver Web site which can easily be linked to from the http://www.doleta.gov Web site.)

Performance Accountability and Implementation of Common Performance Measures

Improved performance accountability for customer-focused results is a central feature of WIA and remains a strategic priority for the President and the Department of Labor. In an effective accountability system, a clear link should exist between the State's program design and the results achieved. The performance information should be available to and easily understood by all customers, stakeholders, and operators of the workforce investment system.

To enhance the management of the workforce system and the usability of performance information, the Department, in collaboration with other Federal agencies, has developed a set of common performance measures for federally-funded training and employment programs. The value of common measures is the ability to describe in a similar manner the core purposes of the workforce system—did people find jobs; did people stay employed; and did earnings increase? Standardizing the definitions of the outcomes across programs simplifies reporting. Coupled with valid and accurate information, use of common measures provides a greater ability to compare and manage results.

It is ETA's intent to begin data collection in support of common measures effective July 1, 2005, for Program Year 2005. This was recently announced in Training and Employment Guidance Letter 18-04, “Announcing the soon-to-be-published Proposed Revisions to Existing Performance Reporting Requirements for the Implementation of Common Measures for title I of the Workforce Investment Act (WIA), the Wagner-Peyser Act (Employment Service (ES)/Labor Exchange), the Trade Adjustment Assistance Reform Act (TAA), and title 38, chapter 41 Job Counseling, Training, and Placement Service (Veterans' Employment and Training Service (VETS)).” Prior to the effective date, ETA will publish proposed revisions to reporting and recordkeeping requirements in support of common measures in a separate Federal Register Notice.

The common measures are an integral part of ETA's performance accountability system. ETA will continue to collect from States and grantees other data on program activities, participants, and outcomes necessary for program management, including data that support the existing WIA performance measures, and to convey full and accurate information on the performance of workforce programs to policymakers and stakeholders.

Part II. State Planning Instructions

Table of State Plan Contents

Plan Development Process

Plan Submission Requirements

Department of Labor Review and Approval

Negotiated Performance Indicators

Modifications to State Plan

Inquiries

I. State Vision

II. State Workforce Investment Priorities

III. State Governance Structure

A. Organization of State Agencies in Relation to Governor

B. State Workforce Investment Board (WIB)

C. Structure/Process for State Agencies and State Board to Collaborate and Communicate With Each Other and With the Local Workforce Investment System

IV. Economic and Labor Market Analysis

V. Overarching State Strategies

VI. Major State Policies and Requirements

VII. Integration of One-Stop Service Delivery

VIII. Administration and Oversight of Local Workforce Investment System

IX. Service Delivery

A. One-Stop Service Delivery Strategies

B. Workforce Information

C. Adults and Dislocated Workers

D. Rapid Response

E. Youth

F. Business Services

G. Innovative Service Delivery Strategies

H. Strategies for Faith-based and Community-based Organizations

X. State Administration

XI. Assurances

Attachments

A. ETA Regional Administrators List

B. Program Administration Designees and Plan Signatures

C. Optional Table for State Performance Indicators and Goals

D. Local Planning Guidance for Single Workforce Investment Area States

Plan Development Process

WIA gives states and local areas a unique opportunity to develop employment and training systems tailored specifically to state and local area needs. Since the state plan is only as effective as the partnerships that operationalize it, it should represent a collaborative process among state and local elected officials, Boards and partners (including economic development, education and private sector partners) to create a shared understanding of the state's workforce investments needs, a shared vision of how the workforce investment system can be designed to meet those needs, and agreement on the key strategies to attain this vision. This type of collaborative planning at all stages—from the initial planning discussions through drafting the state plan document—will enable the state plan to both drive local system improvements and allow room for strategies tailored to local needs. Plan development must also include an opportunity for stakeholder and public review and comment.

Describe, in one page or less, the process for developing the state plan.

1. Include (a) a discussion of the involvement of the Governor and the State Board in the development of the plan, and (b) a description of the manner in which the State Board collaborated with economic development, education, the business community and other interested parties in the development of the state plan. (§ 112(b)(1).)

2. Include a description of the process the State used to make the Plan available to the public and the outcome of the State's review of the resulting public comments. (§§ 111(g), 112(b)(9).)

Plan Submission Requirements

WIA state plans must have an original signature of the Governor, and the name of the Governor must be typed below the signature. The due date for submission of the first two-year period, July 1, 2005 through June 30, 2007, of the five-year strategic plan is Tuesday, May 31, 2005.

States have the option to submit state plans in an electronic, hard copy, or CD-ROM format. The Department of Labor is encouraging states to submit state plans in electronic format to reduce the reporting and processing burden and to ensure timely receipt by the Department. The designated Federal Coordinator for the review and approval process is Christine Kulick, e-mail: kulick.christine@dol.gov; phone: (202) 693-3045.

Options for Submission

Electronic Submission. States can submit a state plan electronically either by posting it on an Internet Web site that is accessible to the Department or by transmitting it through electronic mail to the Department.

Posting State Plans on an Internet Web Site. Under this option, a state need only post its state plan on an Internet Web site; inform the Federal Coordinator and the appropriate ETA Regional Administrator (as listed in Attachment A) through electronic mail of the URL and the location of the document on the Web site; provide contact information in the event of problems with accessing the Web site; and certify that no changes will be made to the version of the state plan posted on the Web site after it has been submitted to the Department, unless the Department grants prior approval for such changes.

Transmitting State Plans by Electronic Mail. States submitting their Plan by electronic mail should send it to WIA.PLAN@DOL.GOV with a copy sent to the appropriate ETA Regional Administrator (as listed in Attachment A).

Other Considerations When Using Electronic Submission. State plan certifications with electronic signatures are acceptable. If a state chooses not to use an electronic signature, then the signature page must be submitted in hard copy. If a state chooses to submit its State plan by transmitting it through electronic mail, the state must submit it in Microsoft Word or PDF format.

Hard Copy or CD-ROM Submission. States choosing to submit a hard copy should submit one copy of the plan (with an original signature) to the appropriate ETA Regional Administrator, as listed in Attachment A, and one copy to Christine Kulick, the Federal Coordinator for Plan Review and Approval.

States submitting a state plan on CD-ROM should submit one copy of the plan to Christine Kulick, the Federal Coordinator for Plan Review and Approval, and one copy to the appropriate ETA Regional Administrator (as listed in Attachment A). If the state plan on the CD-ROM does not include the signature of the Governor on the signature page, the state must submit separately an electronic signature or a signature page in hard copy. Plans submitted on a CD-ROM must be in Microsoft Word or PDF format.

Any state submitting its plan in hard copy, or on a CD-ROM, should send it to the following address, with a copy to the Regional Administrator: Division of One-Stop Operations, Employment and Training Administration, U.S. Department of Labor, 200 Constitution Ave., NW., Room S-4231, Washington, DC 20210, Attn: Ms. Christine Kulick.

The Federal Coordinator will confirm receipt of the state plan within two workdays of receipt and indicate the date for the start of the review period. When a state submits an incomplete state plan, the period for review will not start until all required components of the state plan have been received.

Department of Labor Review and Approval

State plans will be reviewed in accordance with 20 CFR 661.220(e), which provides that the Secretary must approve all state plans within 90 days of their submission, unless the Secretary determines in writing that: (1) The state plan is inconsistent with the provisions of title I of WIA or the WIA regulations, including 29 CFR part 37; or (2) the portion of the state plan impacting the Wagner-Peyser Act plan does not satisfy the criteria for approval in section 8(d) of the Wagner-Peyser Act or the Wagner-Peyser Act regulations at 20 CFR part 652. However, for state plans that are submitted by the due date of May 31, 2005, for the two-year planning period, July 1, 2005 through June 30, 2007, the Department of Labor is committed to completing its review of the plan within 30 days.

The appropriate Regional Administrator will advise the state by letter, as soon as possible, that the state plan is approved or disapproved. If the state plan is not approved, the Regional Administrator will clearly indicate the reasons for disapproval and specify what additional information is required or what action needs to be taken for the state plan to be approved.

Negotiated Performance Indicators

WIA allows considerable flexibility in system design and service delivery, in exchange for both accountability for a key set of outcomes and improving those outcomes over time. To accomplish this, the Secretary of Labor and the Governor of each State must reach agreement on the State's negotiated performance levels for the core indicators of performance, and for customer satisfaction indicators of employers' and participants' satisfaction. These levels of performance become the basis for sanctions for failed performance and, with additional performance levels under Adult Education and Vocational Education, the basis for incentive grants.

At a minimum, the state plan should include proposed performance goals each of the performance indicators for the two program years covered by the Plan for all programs covered in the plan (including Wagner-Peyser). While the state plan is under review, the ETA Regional Administrator and the state will discuss the performance levels, and negotiate on them as appropriate. The Department expects states to enter into preliminary discussions with the local boards and the ETA Regional Administrators before submitting the state plan. States are expected to come to the negotiating table with support from their local boards for the proposed performance goals. Entering into preliminary discussions prior to plan submission will maximize the time available to States, local areas, and the Department to develop a shared set of goals. ETA Regional Administrators will coordinate with other Department of Labor program administrators, including the Veterans' Employment and Training Service (VETS) Regional Administrators, to assure comprehensive Departmental participation. The Department will provide additional guidance regarding the negotiation process at a later date.

Modifications to State Plans

Modifications may be needed in any number of areas to keep the state plan a viable, living document over its two-year life. WIA regulations permit states to modify their plan at any time and 20 CFR 652.212 and 661.230 outline the circumstances under which modifications must be submitted. Modifications are required when:

(1) Changes in Federal or State law or policy substantially change the assumptions upon which the plan is based.

(2) There are changes in the Statewide vision, strategies, policies, performance indicators, the methodology used to determine local allocation of funds, reorganizations which change the working relationship with system employees, changes in organizational responsibilities, changes to the membership structure of the State Board or alternative entity and similar substantial changes to the State's workforce investment system.

(3) The State has failed to meet performance goals, and must adjust service strategies.

The regulations, at 20 CFR 652.212, which relate to the Wagner-Peyser Act portions of the plan, also require modifications when there is any reorganization of the State agency designated to deliver services under the Wagner-Peyser Act, any change in service delivery strategy, any change in levels of performance when performance goals are not met, or any change in services delivered by State merit-staff employees.

In general, it is substantial changes to the Strategic Five-Year Plan that require a modification under the regulations, i.e., any change that significantly impacts the operation of the state's workforce investment system.

Modifications to the state plan are subject to the same public review and comment requirements that apply to the development of the original state plan. States should direct any questions about the need to submit a plan modification to the appropriate ETA Regional Administrator (as listed in Attachment A).

Inquiries

General inquiries about the State Planning Instructions may be directed to Christine Kulick, the Federal Coordinator for Plan Review and Approval. She may be contacted by e-mail at kulick.christine@dol.gov or by phone at (202) 693-3045. Inquiries about specific State issues should be directed to the appropriate ETA Regional Administrator (as listed in Attachment A).

State Vision

Describe the Governor's vision for a Statewide workforce investment system. Provide a summary articulating the Governor's vision for utilizing the resources of the workforce system in support of the State's economic development that address the issues and questions below. States are encouraged to attach more detailed documents to expand upon any aspect of the summary response if available. (§ 112(a) and (b)(4)(A-C).)

A. What are the State's economic development goals for attracting, retaining and growing business and industry within the State? (§ 112(a) and (b)(4)(A-C).)

B. Given that a skilled workforce is a key to the economic success of every business, what is the Governor's vision for maximizing and leveraging the broad array of Federal and State resources available for workforce investment flowing through the State's cabinet agencies and/or education agencies in order to ensure a skilled workforce for the State's business and industry? (§ 112(a) and (b)(4)(A-C).)

C. Given the continuously changing skill needs that business and industry have as a result of innovation and new technology, what is the Governor's vision for ensuring a continuum of education and training opportunities that support a skilled workforce? (§ 112(a) and (b)(4)(A-C).)

D. What is the Governor's vision for bringing together the key players in workforce development including business and industry, economic development, education, and the workforce system to continuously identify the workforce challenges facing the State and to develop innovative strategies and solutions that effectively leverage resources to address those challenges? (§ 112(b)(10).)

E. What is the Governor's vision for ensuring that every youth has the opportunity for developing and achieving career goals through education and workforce training, including the youth most in need of assistance, such as out-of-school youth, homeless youth, youth in foster care, youth aging out of foster care, youth offenders, children of incarcerated parents, migrant and seasonal farmworker youth, and other youth at risk? (§ 112(b)(18)(A.)

II. State Workforce Investment Priorities

Identify the Governor's key workforce investment priorities for the State's workforce system and how each will lead to actualizing the Governor's vision for workforce and economic development. (§§ 111(d)(2) and 112(a).)

III. State Governance Structure (§ 112(b)(8)(A))

A. Organization of State Agencies in Relation to the Governor

1. Provide an organizational chart that delineates the relationship to the Governor of the agencies involved in the public workforce investment system, including education and economic development and the required and optional One-Stop partner programs managed by each agency.

2. In a narrative describe how the agencies involved in the public workforce investment system interrelate on workforce and economic development issues and the respective lines of authority.

B. State Workforce Investment Board (§ 112(b)(1))

1. Describe the organization and structure of the State Board. (§ 111).)

2. Identify the organizations or entities represented on the State Board. If you are using an alternative entity which does not contain all the members required under section 111(b)(1), describe how each of the entities required under this section will be involved in planning and implementing the State's workforce investment system as envisioned in WIA. How is the alternative entity achieving the State's WIA goals? (§ 111(a-c), 111(e), and 112(b)(1).)

3. Describe the process your State used to identify your State board members. How did you select board members, including business representatives, who have optimum policy-making authority and who represent diverse regions of the State as required under WIA? (20 CFR 661.200).)

4. Describe how the board's membership enables you to achieve your vision described above. (§§ 111(a-c) and 112(b)(1).)

5. Describe how the Board carries out its functions as required in § 111(d) and 20 CFR 661.205. Include functions the Board has assumed that are in addition to those required. Identify any functions required in § 111(d) the Board does not perform and explain why.

6. How will the State board ensure that the public (including people with disabilities) has access to board meetings and information regarding State board activities, including membership and meeting minutes? (20 CFR 661.205.)

7. Identify the circumstances which constitute a conflict of interest for any State or local workforce investment board member or the entity that s/he represents, and any matter that would provide a financial benefit to that member or his or her immediate family. (§§ 111(f), 112(b)(13), and 117(g).)

8. What resources does the State provide the board to carry out its functions, i.e., staff, funding, etc.?

C. Structure/Process for State Agencies and State Board To Collaborate and Communicate With Each Other and With the Local Workforce Investment System (§ 112(b)(8)(A))

1. Describe the steps the State will take to improve operational collaboration of the workforce investment activities and other related activities and programs outlined in section 112(b)(8)(A), at both the State and local level (e.g., joint activities, memoranda of understanding, planned mergers, coordinated policies, etc.). How will the State board and agencies eliminate any existing State-level barriers to coordination? (§§ 111(d)(2) and 112(b)(8)(A).)

2. Describe the lines of communication established by the Governor to ensure open and effective sharing of information among the State agencies responsible for implementing the vision for the workforce system and between the State agencies and the State workforce investment board.

3. Describe the lines of communication and mechanisms established by the Governor to ensure timely and effective sharing of information between the State agencies/State Board and local workforce investment areas and local Boards. Include types of regularly issued guidance and how Federal guidance is disseminated to local Boards and One-Stop Career Centers. (§ 112(b)(1).)

4. Describe any cross-cutting organizations or bodies at the State level designed to guide and inform an integrated vision for serving youth in the State within the context of workforce investment, social services, juvenile justice, and education. Describe the membership of such bodies and the functions and responsibilities in establishing priorities and services for youth. How is the State promoting a collaborative cross-agency approach for both policy development and service delivery at the local level for youth? (§ 112(b)(18)(A).)

IV. Economic and Labor Market Analysis (§ 112(b)(4))

As a foundation for this strategic plan and to inform the strategic investments and strategies that flow from this plan, provide a detailed analysis of the State's economy, the labor pool, and the labor market context. Elements of the analysis should include the following:

A. What is the current makeup of the State's economic base by industry?

B. What industries and occupations are projected to grow and/or decline in the short term and over the next decade?

C. In what industries and occupations is there a demand for skilled workers and available jobs, both today and projected over the next decade? In what numbers?

D. What jobs/occupations are most critical to the State's economy?

E. What are the skill needs for the available, critical and projected jobs?

F. What are the current and projected demographics of the available labor pool (including the incumbent workforce) both now and over the next decade?

G. Is the State experiencing any “in migration” or “out migration” of workers that impact the labor pool?

H. Based on an analysis of both the projected demand for skills and the available and projected labor pool, what skill gaps is the State experiencing today and what skill gaps are projected over the next decade?

I. Based on an analysis of the economy and the labor market, what workforce development issues has the State identified?

J. What workforce development issues has the State prioritized as being most critical to its economic health and growth?

V. Overarching State Strategies

A. Identify how the State will use WIA title I funds to leverage other Federal, State, local, and private resources in order to maximize the effectiveness of such resources and to expand the participation of business, employees, and individuals in the Statewide workforce investment system? (§ 112(b)(10).)

B. What strategies are in place to address the national strategic direction discussed in part I of this guidance, the Governor's priorities, and the workforce development issues identified through the analysis of the State's economy and labor market? (§ 112(b)(4)(D), 112(a).)

C. Based on the State's economic and labor market analysis, what strategies has the State implemented or plans to implement to target industries and occupations within the State that are high growth, high demand, and vital to the State's economy? (§ 112(a), 112(b)(4)(A).) The State may want to consider:

1. Industries projected to add a substantial number of new jobs to the economy; or

2. Industries that have a significant impact on the overall economy; or

3. Industries that impact the growth of other industries; or

4. Industries that are being transformed by technology and innovation that require new skill sets for workers; or

5. Industries that new and emerging and are expected to grow.

D. What strategies are in place to promote and develop ongoing and sustained strategic partnerships that include business and industry, economic development, the workforce system, and education partners (K-12, community colleges and others) for the purpose of continuously identifying workforce challenges and developing solutions to targeted industries' workforce challenges? (§ 112(b)(8).)

E. What State strategies are in place to ensure that sufficient system resources are being spent to support training of individuals in high growth/high demand industries? (§ 112(b)(17)(A)(i), and 112(b)(4)(A).)

F. What workforce strategies does the State have to support the creation, sustainability, and growth of small businesses and support for the workforce needs of small businesses as part of the State's economic strategy? (§§ 112(b)(4)(A) and 112(b)(17)(A)(i).)

G. How are the funds reserved for Statewide activities used to incent the entities that make up the State's workforce system at the State and local levels to achieve the Governor's vision and address the national strategic direction identified in part I of this guidance? (§ 112(a).)

H. Describe the State's strategies to promote collaboration between the workforce system, education, human services, juvenile justice, and other systems to better serve youth that are most in need and have significant barriers to employment, and to successfully connect them to education and training opportunities that lead to successful employment. (§ 112(b)(18)(A).)

I. Describe the State's strategies to identify State laws, regulations, policies that impede successful achievement of workforce development goals and strategies to change or modify them. (§ 112(b)(2).)

J. Describe how the State will take advantage of the flexibility provisions in WIA for waivers and the option to obtain approval as a workflex State pursuant to § 189(i) and § 192.

VI. Major State Policies and Requirements

Describe major State policies and requirements that have been established to direct and support the development of a Statewide workforce investment system not described elsewhere in this Plan as outlined below. (§ 112(b)(2).)

A. What State policies and systems are in place or planned to support common data collection and reporting processes, information management, integrated service delivery, and performance management? (§§ 111(d)(2) and 112(b)(8)(B).)

B. What State policies are in place that promote efficient use of administrative resources such as requiring more co-location and fewer affiliate sites in local One-Stop systems to eliminate duplicative facility and operational costs or requiring a single administrative structure at the local level to support local boards and to be the fiscal agent for WIA funds to avoid duplicative administrative costs that could otherwise be used for service delivery and training? The State may include administrative cost controls, plans, reductions, and targets for reductions if it has established them. (§§ 111(d)(2) and 112(b)(8)(A).)

C. What State policies are in place to promote universal access and consistency of service Statewide? (§ 112(b)(2).)

D. What policies support a demand-driven approach, as described in Part I. “Demand-driven Workforce Investment System”, to workforce development—such as training on the economy and labor market data for local Board and One-Stop Career Center staff? (§§ 112(b)(4) and 112(b)(17)(A)(iv).)

E. What policies are in place to ensure that the resources available through the Federal and/or State apprenticeship programs and the Job Corps are fully integrated with the State's One-Stop delivery system? (§ 112)(b)(17)(A)(iv).)

VII. Integration of One-Stop Service Delivery

Describe the actions the State has taken to ensure an integrated One-Stop service delivery system Statewide. (§§ 112(b)(14) and 121).)

A. What State policies and procedures are in place to ensure the quality of service delivery through One-Stop Centers such as development of minimum guidelines for operating comprehensive One-Stop Centers, competencies for One-Stop Career Center staff or development of a certification process for One-Stop Centers? (§ 112(b)(14).)

B. What policies or guidance has the State issued to support maximum integration of service delivery through the One-Stop delivery system for both business customers and individual customers? (§ 112(b)(14).)

C. What actions has the State taken to promote identifying One-Stop infrastructure costs and developing models or strategies for local use that support integration? (§ 112(b)(14).)

D. How does the State use the funds reserved for Statewide activities pursuant to §§ 129(b)(2)(B) and 134(a)(2)(B)(v) to assist in the establishment and operation of One-Stop delivery systems? (§ 112(b)(14).)

E. How does the State ensure the full array of services and staff in the One-Stop delivery system support human capital solutions for businesses and individual customers broadly? (§ 112(b)(14).)

VIII. Administration and Oversight of Local Workforce Investment System

A. Local Area Designations:

1. Identify the State's designated local workforce investment areas and the date of the most recent area designation, including whether the State is currently re-designating local areas pursuant to the end of the subsequent designation period for areas designated in the previous State Plan. (§ 112(b)(5).)

2. Include a description of the process used to designate such areas. Describe how the State considered the extent to which such local areas are consistent with labor market areas: geographic areas served by local and intermediate education agencies, post-secondary education institutions and area vocational schools; and all other criteria identified in section 116(a)(1) in establishing area boundaries, to assure coordinated planning. Describe the State Board's role, including all recommendations made on local designation requests pursuant to section 116(a)(4). (§§ 112(b)(5) and 116(a)(1).)

3. Describe the appeals process used by the State to hear appeals of local area designations referred to in § 112(b)(5) and § 116(a)(5).

B. Local Workforce Investment Boards—Identify the criteria the State has established to be used by the chief elected official(s) in the local areas for the appointment of local board members based on the requirements of section 117. (§§ 112(b)(6), 117(b).)

C. How will your State build the capacity of Local Boards to develop and manage high performing local workforce investment system? (§§ 111(d)(2) and 112(b)(14).)

D. Local Planning Process—Describe the State mandated requirements for local workforce areas' strategic planning. What assistance does the State provide to local areas to facilitate this process, (112(b)(2) and 20 CFR 661.350(a)(13).) including:

1. What oversight of the local planning process is provided, including receipt and review of plans and negotiation of performance agreements? and

2. How does the local plan approval process ensure that local plans are consistent with State performance goals and State strategic direction?

E. Regional Planning (§§ 112(b)(2), 116(c)).

1. Describe any intra-State or inter-State regions and their corresponding performance measures.

2. Include a discussion of the purpose of these designations and the activities (such as regional planning, information sharing and/or coordination activities) that will occur to help improve performance. For example, regional planning efforts could result in the sharing of labor market information or in the coordination of transportation and support services across the boundaries of local areas.

3. For inter-State regions (if applicable), describe the roles of the respective Governors and State and local Boards.

F. Allocation Formulas (112(b)(12)).

1. If applicable, describe the methods and factors (including weights assigned to each factor) your State will use to distribute funds to local areas for the 30% discretionary formula adult employment and training funds and youth funds pursuant to §§ 128(b)(3)(B) and 133(b)(3)(B).

2. Describe how the allocation methods and factors help ensure that funds are distributed equitably throughout the State and that there will be no significant shifts in funding levels to a local area on a year-to-year basis.

3. Describe the State's allocation formula for dislocated worker funds under § 133(b)(2)(B).

4. Describe how the individuals and entities on the State board were involved in the development of the methods and factors, and how the State consulted with chief elected officials in local areas throughout the State in determining such distribution.

G. Provider Selection Policies (§§ 112(b)(17)(A)(iii), 122, 134(d)(2)(F)).

1. Identify the policies and procedures, to be applied by local areas, for determining eligibility of local level training providers, how performance information will be used to determine continuing eligibility and the agency responsible for carrying out these activities.

2. Describe how the State solicited recommendations from local boards and training providers and interested members of the public, including representatives of business and labor organizations, in the development of these policies and procedures.

3. Describe how the State will update and expand the State's eligible training provider list to ensure it has the most current list of providers to meet the training needs of customers?

4. Describe the procedures the Governor has established for providers of training services to appeal a denial of eligibility by the local board or the designated State agency, a termination of eligibility or other action by the board or agency, or a denial of eligibility by a One-Stop operator. Such procedures must include the opportunity for a hearing and time limits to ensure prompt resolution.

5. Describe the competitive and non-competitive processes that will be used at the State level to award grants and contracts for activities under title I of WIA, including how potential bidders are being made aware of the availability of grants and contracts. (§ 112(b)(16).)

6. Identify the criteria to be used by local boards in awarding grants for youth activities, including criteria that the Governor and local boards will use to identify effective and ineffective youth activities and providers of such activities. (§ 112(b)(18)(B).)

H. One-Stop Policies (§ 112(D)(14)).

1. Describe how the services provided by each of the required and optional One-Stop partners will be coordinated and made available through the One-Stop system. Include how the State will consolidate Wagner-Peyser Act funds to avoid duplication of core services. (§ 112(b)(8)(A).)

2. Describe how the State helps local areas identify areas needing improvement and how technical assistance will be provided.

3. Identify any additional State mandated One-Stop partners (such as TANF or Food Stamp Employment and Training) and how their programs and services are integrated into the One-Stop Career Centers.

I. Oversight/Monitoring Process—Describe the monitoring and oversight criteria and procedures the State utilizes to move the system toward the State's vision and achieve the goals identified above, such as the use of mystery shoppers, performance agreements. (§ 112(b)(14).)

J. Grievance Procedures.—Attach a copy of the State's grievance procedures for participants and other affected parties (including service providers.) (§ 122(g) and 181(cc).)

K. Describe the following State policies or procedures that have been developed to facilitate effective local workforce investment systems (§§ 112(b)(17)(A) and 112 (b)(2).):

1. State guidelines for the selection of One-Stop providers by local boards;

2. Procedures to resolve impasse situations at the local level in developing memoranda of understanding (MOUs) to ensure full participation of all required partners in the One-Stop delivery system;

3. Criteria by which the State will determine if local Boards can run programs in-house;

4. Performance information that on-the-job training and customized training providers must provide;

5. Reallocation policies;

6. State policies for approving local requests for authority to transfer funds (not to exceed 20%) between the Adult and Dislocated Worker funding streams at the local level;

7. Policies related to displaced homemakers, nontraditional training for low-income individuals, older workers, low-income individuals, disabled individuals and others with multiple barriers to employment and training;

8. If you did not delegate this responsibility to local boards, provide your State's definition regarding the sixth youth eligibility criterion at section 101(13)(C)(iv) (“an individual who requires additional assistance to complete an educational program, or to secure and hold employment”). (§§ 112(b)(18)(A) and 20 CFR 664.210).)

IX. Service Delivery

Describe the approaches the State will use to provide direction and support to local Boards and the One-Stop Career Center delivery system on the strategic priorities to guide investments, structure business engagement, and inform service delivery approaches for all customers. (§§ 112(b)(17)(A) Activities could include:

A. One-Stop Service Delivery Strategies (§§ 112(b)(2) and 111(d)(2))

1. How will the services provided by each of the required and optional One-Stop partners be coordinated and made available through the One-Stop system? (§ 112(b)(8)(A).)

2. How are youth formula programs funded under § 128(b)(2)(A) integrated in the One-Stop system?

3. What minimum service delivery requirements does the State mandate in a comprehensive One-Stop Center or an affiliate site?

4. What tools and products has the State developed to support service delivery in all One-Stop Centers Statewide?

5. What models/templates/approaches does the State recommend and/or mandate for service delivery in the One-Stop Centers? For example, do all One-Stop Centers have a uniform method of organizing their service delivery to business customers? Is there a common individual assessment process utilized in every One-Stop Center? Are all One-Stop Centers required to have a resource center that is open to anyone?

B. Workforce Information

A fundamental component of a demand-driven workforce investment system is the integration and application of the best available State and local workforce information including, but not limited to, economic data, labor market information, census data, private sources of workforce information produced by trade associations and others, educational data, job vacancy surveys, transactional data from job boards, and information obtained directly from businesses. (§§ 111(d)(8), 112(b)(1), and 134(d)(2)(E).)

1. Describe how the State will integrate workforce information into its planning and decision making at the State and local level, including State and local Boards, One-Stop operations, and case manager guidance.

2. Describe the approach the State will use to disseminate accurate and timely workforce information to businesses, job seekers, and employment counselors, in easy to use formats that are readily accessible within One-Stop Career Centers and at remote locations such as libraries, schools, worksites, and at home.

3. Describe how the State's Workforce Information Core Products and Services Plan is aligned with the WIA State Plan to ensure that the investments in core products and services support the State's overall strategic direction for workforce investment.

4. Describe how State workforce information products and tools are coordinated with the national electronic workforce information tools including America's Career Information Network and Career Voyages.

C. Adults and Dislocated Workers

1. Core Services. § 112(b)(17)(a)(i).

a. Describe state strategies and policies to ensure adults and dislocated workers have universal access to the minimum required core services as described in § 134(d)(2).

b. Describe how the state will ensure the three-tiered service delivery strategy for labor exchange services for job seekers and employers authorized by the Wagner-Peyser Act includes: (1) Self-service, (2) facilitated self-help service, and (3) staff-assisted service, and is accessible and available to all customers at the local level.

c. Describe how the state will integrate resources provided under the Wagner-Peyser Act and WIA title I for adults and dislocated workers as well as resources provided by required One-Stop partner programs, to deliver core services.

2. Intensive Services. (§ 112(b)(17)(a)(i).) Describe State strategies and policies to ensure adults and dislocated workers who meet the criteria in § 134(d)(3)(A) receive intensive services as defined.

3. Training Services. (§ 112(b)(17)(A)(i).)

a. Describe the Governor's vision for increasing training access and opportunities for individuals including the investment of WIA title I funds and the leveraging of other funds and resources.

b. Individual Training Accounts:

i. What policy direction has the State provided for ITAs?

ii. Describe innovative training strategies used by the State to fill skills gaps. Include in the discussion the State's effort leverage additional resources to maximize the use of ITAs through partnerships with business, education (in particular, community and technical colleges), economic development agencies, and industry associations and how business and industry involvement is used to drive this strategy.

iii. Discuss the State's plan for committing all or part of WIA title I funds to training opportunities in high-growth, high-demand, and economically vital occupations.

iv. Describe the State's policy for limiting ITAs (e.g., dollar amount or duration).

v. Describe the State's current or planned use of WIA title I funds for the provision of training through apprenticeship.

vi. Identify State policies developed in response to changes to WIA regulations that permit the use of WIA title I financial assistance to employ or train participants in religious activities when the assistance is provided indirectly) such as through an ITA. (Note that the Department of Labor provides Web access to the equal treatment regulations and other guidance for the workforce investment system and faith-based and community organizations at http://www.dol.gov/cfbci/legalguidance.htm.)

c. Eligible Training Provider List. Describe the State's process for providing broad customer access to the statewide list of eligible training providers and their performance information including at every One-Stop Career Center. (§ 112(b)(17)(A)(iii).)

d. On-the-Job (OJT) and Customized Training (§§ 112(b)(17)(A)(i) and 134(b)). Based on the outline below, describe the State's major directions, policies and requirements related to OJT and customized training.

i. Describe the Governor's vision for increasing training opportunities to individuals through the specific delivery vehicles of OJT and customized training.

ii. Describe how the State:

• Identifies OJT and customized training opportunities;

• Markets OJT and customized training as an incentive to untapped employer pools including new business to the State, employer groups;

• Partners with high-growth, high-demand industries and economically vital industries to develop potential OJT and customized training strategies;

• Taps business partners to help drive the demand-driven strategy through joint planning, competency and curriculum development; and determining appropriate lengths of training, and

• Leverages other resources through education, economic development and industry associations to support OJT and customized training ventures.

4. Service to Specific Populations. (§ 112(b)(17)(A)(iv).)

a. Describe the State's strategies to ensure that the full range of employment and training programs and services delivered through the State's One-Stop delivery system are accessible to and will meet the needs of dislocated workers, displaced homemakers, low-income individuals migrant and seasonal farmworkers, women, minorities, individuals training for non-traditional employment, veterans, public assistance recipients and individuals with multiple barriers to employment (including older individuals, people with limited English-speaking proficiency, and people with disabilities.)

b. Describe the reemployment services you will provide to unemployment insurance claimants and the Worker Profiling services provided to claimants identified as most likely to exhaust their unemployment insurance benefits in accordance with section 3(c)(3) of the Wagner-Peyser Act.

c. Describe how the State administers the unemployment insurance work test and how feedback requirements (under § 7(a)(3)(F) of the Wagner-Peyser Act) for all UI claimants are met.

d. Describe the State's strategy for integrating and aligning services to dislocated workers provided through the WIA rapid response, WIA dislocated worker, and Trade Adjustment Assistance (TAA) programs. Does the State have a policy supporting co-enrollment for WIA and TAA?

e. How is the State's workforce investment system working collaboratively with business and industry and the education community to develop strategies to overcome barriers to skill achievement and employment experienced by the populations listed in paragraph (a.) above and to ensure they are being identified as a critical pipeline of workers?

f. Describe how the State will ensure that the full array of One-Stop services are available to individuals with disabilities and that the services are fully accessible?

g. Describe the role LVER/DVOP staff have in the One-Stop Delivery System. How will the State ensure adherence to the legislative requirements for veterans' staff? How will services under this Plan take into consideration the agreement reached between the Secretary and the State regarding veterans' employment programs? (§§ 112(b)(7), 112 (b)(17)((B); 322, 38 U.S.C. chapter 41; and 20 CFR 1001.120).)

h. Department of Labor regulations at 29 CFR 37, require all recipients of Federal financial assistance from DOL to provide meaningful access to limited English proficient (LEP) persons. Federal financial assistance includes grants, training, equipment usage, donations of surplus property, and other assistance. Sub-recipients are also covered when Federal DOL funds are passed through from one recipient to a sub-recipient. Describe how the State will ensure access to services through the State's One-Stop delivery system by persons with limited English proficiency and how the State will meet the requirements of ETA Training and Employment Guidance Letter (TEGL) 26-02 (May 29, 2003), which provides guidance on methods of complying with the Federal rule.

i. Describe the State's strategies to enhance and integrate service delivery through the One-Stop delivery system for migrant and seasonal farm workers and agricultural employers. How will the State ensure that migrant and seasonal farm workers have equal access to employment opportunities through the State's One-Stop delivery system? Include the following:

• The number of Migrant and Seasonal Farmworkers (MSFWs) the State anticipates reaching annually through outreach to increase their ability to access core, intensive, and training services in the One-Stop Career Center System.

5. Priority of Service.

a. What procedures and criteria are in place under 20 CFR 663.600 for the Governor and appropriate local boards to direct One-Stop operators to give priority of service to public assistance recipients and other low-income individuals for intensive and training services if funds allocated to a local area for adult employment and training activities are determined to be limited? (§§ 112(b)(17)(A)(iv) and 134(d)(4)(E).)

b. What policies and strategies does the State have in place to ensure that, pursuant to the Jobs for Veterans Act (Pub. L. 107-288) (38 U.S.C. 4215), that priority of service is provided to veterans (and certain spouses) who otherwise meet the eligibility requirements for all employment and training programs funded by the U.S. Department of Labor, in accordance with the provisions of TEGL 5-03 (9/16/03)?

D. Rapid Response (112(b)(17)(A)(ii))

Describe how your State provides Rapid Response services with the funds reserved under section 133(a)(2).

1. Identify the entity responsible for providing Rapid Response services. Describe how Rapid Response activities involve local boards and Chief Elected Officials. If Rapid Response activities are shared between the State and local areas, describe the functions of each and how funds are allocated to the local areas.

2. Describe the process involved in carrying out Rapid Response activities.

a. What methods are involved in receiving notice of impending layoffs (include WARN Act notice as well as other sources)?

b. What efforts does the Rapid Response team make to ensure that rapid response services are provided, whenever possible, prior to layoff date, onsite at the company, and on company time?

c. What services are included in Rapid Response activities? Does the Rapid Response team provide workshops or other activities in addition to general informational services to affected workers? How do you determine what services will be provided for a particular layoff (including layoffs that may be trade-affected)?

3. How does the State ensure a seamless transition between Rapid Response services and One-Stop activities for affected workers?

4. Describe how Rapid Response functions as a business service. Include whether Rapid Response partners with economic development agencies to connect employees from companies undergoing layoffs to similar companies that are growing and need skilled workers? How does Rapid Response promote the full range of services available to help companies in all stages of the economic cycle, not just those available during layoffs. How does the State promote Rapid Response as a positive, proactive, business-friendly service, not only a negative, reactive service?

5. What other partnerships does Rapid Response engage in to expand the range and quality of services available to companies and affected workers and to develop an effective early layoff warning network?

6. What systems does the Rapid Response team use to track its activities? Does the State have a comprehensive, integrated Management Information System that includes Rapid Response, Trade Act programs, National Emergency Grants, and One-Stop activities?

7. Are Rapid Response funds used for other activities not described above; e.g., the provision of additional assistance to local areas that experience increased workers or unemployed individuals due to dislocation events?

E. Youth

ETA's strategic vision identifies youth most in need, such as out of school youth and those at risk, youth in foster care, youth aging out of foster care, youth offenders, children of incarcerated parents, homeless youth, and migrant and seasonal farmworker youth as those most in need of service. State programs and services should take a comprehensive approach to serving these youth, including basic skills remediation, helping youth stay in or return to school, employment, internships, help with attaining a high school diploma or GED, post-secondary vocational training, apprenticeships and enrollment in community and four-year colleges. (§ 112(b)(18).)

1. Describe your State's strategy for providing comprehensive, integrated services to eligible youth, including those most in need as described above. Include any State requirements and activities to assist youth who have special needs or barriers to employment, including those who are pregnant, parenting, or have disabilities. Include how the State will coordinate across State agencies responsible for workforce investment, foster care, education, human services, juvenile justice, and other relevant resources as part of the strategy. (§ 112(b)(18).)

2. Describe how coordination with Job Corps and other youth programs will occur. (§ 112(b)(18)(C).)

3. How does the State plan to utilize the funds reserved for Statewide activities to support the State's vision for serving youth? Examples of activities that would be appropriate investments of these funds include:

a. Utilizing the funds to promote cross agency collaboration;

b. Demonstration of cross-cutting models of service delivery;

c. Development of new models of alternative education leading to employment; or

d. Development of demand-driven models with business and industry working collaboratively with the workforce investment system and education partners to develop strategies for bringing these youth successfully into the workforce pipeline with the right skills.

e. Describe how your State will, in general, meet the Act's provisions regarding youth program design. (§§ 112(b)(18) and 129(c).)

F. Business Services (§§ 112(a) and 112(b)(2))

Provide a description of the State's strategies to improve the services to employers, including a description of how the State intends to:

1. Determine the employer needs in the local areas and on a Statewide basis.

2. Integrate business services, including Wagner-Peyser Act services, to employers through the One-Stop system.

3. Streamline administration of Federal tax credit programs within the One-Stop system to maximize employer participation. (20 CFR part 652.3(b), § 112(b)(17)(A)(i).)

G. Innovative Service Delivery Strategies (§ 112(b)(17)(A))

1. Describe innovative service delivery strategies the State has or is planning to undertake to maximize resources, increase service levels, improve service quality, achieve better integration or meet other key State goals. Include in the description the initiative's general design, anticipated outcomes, partners involved and funds leveraged (e.g., title I formula, Statewide reserve, employer contributions, education funds, non-WIA State funds).

2. If your State is participating in the ETA Personal Re-employment Account (PRA) demonstration, describe your vision for integrating PRAs as a service delivery alternative as part of the State's overall strategy for workforce investment.

H. Strategies for Faith-Based and Community-Based Organizations (§ 112(b)(17)(i))

Reaching those most in need is a fundamental element of the demand-driven system's goal to increase the pipeline of needed workers while meeting the training and employment needs of those most at risk. Faith-based and community organizations provide unique opportunities for the workforce investment system to access this pool of workers and meet the needs of business and industry. Describe those activities to be undertaken to: (1) increase the opportunities for participation of faith-based and community organizations as committed and active partners in the One-Stop delivery system; and (2) expand the access of faith-based and community-based organizations' clients and customers to the services offered by the One-Stops in the State. Outline those action steps designed to strengthen State collaboration efforts with local workforce investment areas in conducting outreach campaigns to educate faith-based and community organizations about the attributes and objectives of the demand-driven workforce investment system. Indicate how these resources can be strategically and effectively leveraged in the State's workforce investment areas to help meet the objectives of the Workforce Investment Act.

X. State Administration

A. What technology infrastructure and/or management information systems does the State have in place to support the State and local workforce investment activities such as a One-Stop operating system designed to facilitate case management and service delivery across programs, a State job matching system, Web-based self service tools for customers, fiscal management systems, etc.? (§§ 111(d)(2), 112(b)(1), and 112(b)(8)(B).)

B. Describe the State's plan for use of the funds reserved for Statewide activities under WIA § 128 (a)(1).

C. Describe how any waivers or workflex authority (both existing and planned) will assist the State in developing its workforce investment system. (§§ 189(i)(1), 189 (i)(4)(A), and 192.)

D. Performance Management and Accountability. Improved performance and accountability for customer-focused results are central features of WIA. To improve, states need not only systems in place to collect data and track performance, but also systems to analyze the information and modify strategies to improve performance. (See Training and Employment Guidance Letter (TEGL) 15-03, Common Measures Policy, December 10, 2003.) In this section, describe how the State measures the success of its strategies in achieving its goals, and how the State uses this data to continuously improve the system.

1. Describe the State's performance accountability system, including any state-system measures and the state's performance goals established with local areas. Identify the performance indicators and goals the State has established to track its progress toward meeting its strategic goals and implementing its vision for the workforce investment system. For each of the core indicators, explain how the State worked with local boards to determine the level of the performance goals. Include a discussion of how the levels compare with the State's previous outcomes as well as with the State-adjusted levels of performance established for other States (if available), taking into account differences in economic conditions, the characteristics of participants when they entered the program and the services to be provided. Include a description of how the levels will help the State achieve continuous improvement over the two years of the Plan. (§§ 112(b)(3) and 136(b)(3).)

2. Describe any targeted applicant groups under WIA title I, the Wagner-Peyser Act or title 38 chapters 41 and 42 (Veterans Employment and Training Programs) that the State tracks. (§§ 111(d)(2), 112(b)(3) and 136(b)(2)(C).)

3. Identify any performance outcomes or measures in addition to those prescribed by WIA and what process the State is using to track and report them.

4. Describe the State's common data system and reporting processes in place to track progress. Describe what data will be collected from the various One-Stop partners (beyond that required by DOL), use of quarterly wage records (including how your State accesses wage records), and how the Statewide system will have access to the information needed to continuously improve. (§ 112(b)(8)(B).)

5. Describe any actions the Governor and State Board will take to ensure collaboration with key partners and continuous improvement of the Statewide workforce investment system. (§§ 111(d)(2) and112(b)(1).)

6. How do the State and local boards evaluate performance? What corrective actions (including sanctions and technical assistance) will the State take if performance falls short of expectations? How will the State and Local Boards use the review process to reinforce the strategic direction of the system? (§§ 111(d)(2), 112(b)(1), and 112(b)(3).)

7. What steps, has the State taken to prepare for implementation of new reporting requirements against the common performance measures as described in Training and Employment Guidance Letter (TEGL), 15-03, December 10, 2003, Common Measures Policy? In addition, what is the State's plan for gathering baseline data and establishing performance targets for the common measures? Note: ETA will issue additional guidance on reporting requirements for common measures.

8. Include a proposed level for each performance measure for each of the two program years covered by the Plan. While the plan is under review, the state will negotiate with the respective ETA Regional Administrator to set the appropriate levels for the next two years. States must identify the performance indicators required under section 136, and, for each indicator, the State must develop an objective and quantifiable performance goal for two program years. States are encouraged to address how the performance goals for local workforce investment areas and training provides will help them attain their statewide performance goals. (§§ 112(b)(3) and 136.)

E. Administrative Provisions.

1. Provide a description of the appeals process referred to in § 116(a)(5)(m).

2. Describe the steps taken by the State to ensure compliance with the non-discrimination requirements outlined in § 188.

XI. Assurances

1. The State assures that it will establish, in accordance with section 184 of the Workforce Investment Act, fiscal control and fund accounting procedures that may be necessary to ensure the proper disbursement of, and accounting for, funds paid to the State through the allotments made under sections 127 and 132. (§ 112(b)(11).)

2. The State assures that it will comply with section 184(a)(6), which requires the Governor to, every two years, certify to the Secretary, that—

a. The State has implemented the uniform administrative requirements referred to in section 184(a)(3);

b. The State has annually monitored local areas to ensure compliance with the uniform administrative requirements as required under section 184(a)(4); and

c. The State has taken appropriate action to secure compliance with section 184 (a)(3) pursuant to section 184(a)(5). (§ 184(a)(6).)

3. The State assures that the adult and youth funds received under the Workforce Investment Act will be distributed equitably throughout the State, and that no local areas will suffer significant shifts in funding from year to year during the period covered by this Plan. (§ 112(b)(12)(B).)

4. The State assures that veterans will be afforded employment and training activities authorized in section 134 of the Workforce Investment Act, and the activities authorized in chapters 41 and 42 of title 38 U.S. code. The State assures that it will comply with the veterans priority established in the Jobs for Veterans Act. (38 U.S.C. 4215).)

5. The State assures that the Governor shall, once every two years, certify one local board for each local area in the State. (§ 117(c)(2).)

6. The State assures that it will comply with the confidentiality requirements of section 136(f)(3).

7. The State assures that no funds received under the Workforce Investment Act will be used to assist, promote, or deter union organizing. (§ 181(b)(7).)

8. The State assures that it will comply with the nondiscrimination provisions of section 188, including an assurance that a Methods of Administration has been developed and implemented (§ 188.)

9. The State assures that it will collect and maintain data necessary to show compliance with the nondiscrimination provisions of section 188. (§ 185.).

10. The State assures that it will comply with the grant procedures prescribed by the Secretary (pursuant to the authority at section 189(c) of the Act) which are necessary to enter into grant agreements for the allocation and payment of funds under the Act. The procedures and agreements will be provided to the State by the ETA Office of Grants and Contract Management and will specify the required terms and conditions and assurances and certifications, including, but not limited to, the following:

• General Administrative Requirements:

○ 29 CFR part 97—Uniform Administrative Requirements for State and Local Governments (as amended by the Act).

○ 29 CFR part 96 (as amended by OMB Circular A-133)—Single Audit Act.

○ OMB Circular A-87—Cost Principles (as amended by the Act).

• Assurances and Certifications:

○ SF 424 B—Assurances for Non-construction Programs.

○ 29 CFR part 37—Nondiscrimination and Equal Opportunity Assurance (and regulation) 29 CFR 37.20.

○ CFR part 93—Certification Regarding Lobbying (and regulation).

○ 29 CFR part 98—Drug Free Workplace and Debarment and Suspension Certifications (and regulation).

• Special Clauses/Provisions:

Other special assurances or provisions as may be required under Federal law or policy, including specific appropriations legislation, the Workforce Investment Act, or subsequent Executive or Congressional mandates.

11. The State certifies that the Wagner-Peyser Act Plan, which is part of this document, has been certified by the State Employment Security Administrator.

12. The State certifies that veterans' services provided with Wagner-Peyser Act funds will be in compliance with 38 U.S.C. chapter 41 and 20 CFR part 1001.

13. The State certifies that Wagner-Peyser Act-funded labor exchange activities will be provided by merit-based public employees in accordance with DOL regulations.

14. The State assures that it will comply with the MSFW significant office requirements in accordance with 20 CFR part 653.

15. The State certifies it has developed this Plan in consultation with local elected officials, local workforce boards, the business community, labor organizations and other partners.

16. As a condition to the award of financial assistance from the Department of Labor under title I of WIA, the grant applicant assures that it will comply fully with the nondiscrimination and equal opportunity provisions of the following laws:

—Section 188 of the Workforce Investment Act of 1998 (WIA), which prohibits discrimination against all individuals in the United States on the basis of race, color, religion, sex, national origin, age, disability, political affiliation or belief, and against beneficiaries on the basis of either citizenship/status as a lawfully admitted immigrant authorized to work in the United States or participation in any WIA title I—financially assisted program or activity;

—Title VI of the Civil Rights Act of 1964, as amended, which prohibits discrimination on the bases of race, color and national origin;

—Section 504 of the Rehabilitation Act of 1973, as amended, which prohibits discrimination against qualified individuals with disabilities;

—The Age Discrimination Act of 1975, as amended, which prohibits discrimination on the basis of age; and

— Title IX of the Education Amendments of 1972, as amended, which prohibits discrimination on the basis of sex in educational programs.

The grant applicant also assures that it will comply with 29 CFR part 37 and all other regulations implementing the laws listed above. This assurance applies to the grant applicant's operation of the WIA title I—financially assisted program or activity, and to all agreements the grant applicant makes to carry out the WIA title I—financially assisted program or activity. The grant applicant understands that the United States has the right to seek judicial enforcement of this assurance.

17. The State assures that funds will be spent in accordance with the Workforce Investment Act and the Wagner-Peyser Act and their regulations, written Department of Labor Guidance implementing these laws, and all other applicable Federal and State laws and regulations.

Attachment A

ETA Regional Administrators: January 2005

Region 1—Boston/New York

Douglas Small, Regional Administrator, U.S. Department of Labor/ETA, JFK Federal Building, Room E-350, Boston, Massachusetts 02203, (617) 788-0170, Fax: (617) 788-0101, Small.Douglas@dol.gov.

Region 2—Philadelphia

Lenita Jabobs-Simmons, Regional Administrator, U.S. Department of Labor/ETA, The Curtis Center, 170 South Independence Mall West, Suite 825 East, Philadelphia, Pennsylvania 19106-3315, (215) 861-5205, Fax: (215) 861-5205, Jacobs-simmons.lenita@dol.gov.

Region 3—Atlanta

Helen Parker, Regional Administrator, U.S. Department of Labor/ETA, Atlanta Federal Center, Rm. 6M12, 61 Forsyth Street, SW., Atlanta, Georgia 30303, (404) 562-2092, Fax: (404) 562-2149, parker.helen@dol.gov.

Region 4—Dallas/Denver

Joseph C. Juarez, Regional Administrator, U.S. Department of Labor/ETA, Federal Building, Rm. 317, 525 Griffin Street, Dallas, Texas 75202, (214) 767-8263, Fax: (214) 767-5113, Juarez.joseph@dol.gov.

Region 5—Chicago/Kansas City

Byron Zuidema, Regional Administrator, U.S. Department of Labor/ETA, 230 S. Dearborn Street, Rm. 628, Chicago, Illinois 60604, (312) 596-5400, Fax: (312) 596-5401, Zuidema.byron@dol.gov.

Region 6—San Francisco/Seattle

Richard Trigg, Regional Administrator, U.S. Department of Labor/ETA, 71 Stevenson Street, Rm. 830, San Francisco, California 94119-3767, (415) 975-4610, Fax: (415) 975-4612, trigg.richard@dol.gov.

Name of WIA Title I Grant Recipient Agency:

Attachment B

Program Administration Designees and Plan Signatures

Name of WIA Title I Grant Recipient Agency:

Address:

Telephone Number:

Facsimile Number:

E-mail Address:

Name of State WIA Title I Administrative Agency (if different from the Grant Recipient):

Address:

Telephone Number:

Facsimile Number:

E-mail Address:

Name of WIA Title I Signatory Official:

Address:

Telephone Number:

Facsimile Number:

E-mail Address:

Name of WIA Title I Liaison:

Address:

Telephone Number:

Facsimile Number:

E-mail Address:

Name of Wagner-Peyser Act Grant Recipient/State Employment Security Agency:

Address:

Telephone Number:

Facsimile Number:

E-mail Address:

Name and title of State Employment Security Administrator (Signatory Official):

Address:

Telephone Number:

Facsimile Number:

E-mail Address:

As the Governor, I certify that for the State/Commonwealth of ________, the agencies and officials designated above have been duly designated to represent the State/Commonwealth in the capacities indicated for the Workforce Investment Act, title I, and Wagner-Peyser Act grant programs. Subsequent changes in the designation of officials will be provided to the U.S. Department of Labor as such changes occur.

I further certify that we will operate our Workforce Investment Act and Wagner-Peyser Act programs in accordance with this Plan and the assurances herein.

Typed Name of Governor:

Signature of Governor:

Date:

Attachment C

Optional Table for State Performance Indicators and Goals ¹

WIA requirement at section 136(b) | Corresponding performance indicator(s) | Previous year performance | Performance goals out-years: 1 | Performance goals out-years: 2 | Performance goals out-years: 3
Adults:
Entry into Unsubsidized Employment |  |  |  |  |
6-Months Retention in Unsubsidized Employment |  |  |  |  |
6-Months Earnings received in Unsubsidized Employment |  |  |  |  |
Attainment of Educational or Occupational Skills Credential |  |  |  |  |
Dislocated Workers:
Entry into Unsubsidized Employment |  |  |  |  |
6-Months Retention in Unsubsidized Employment |  |  |  |  |
6-Months Earnings received in Unsubsidized Employment |  |  |  |  |
Attainment of Educational or Occupational Skills Credential |  |  |  |  |
Youth Aged 19-21:
Entry into Unsubsidized Employment |  |  |  |  |
6-Months Retention in Unsubsidized Employment |  |  |  |  |
6-Months Earnings received in Unsubsidized Employment |  |  |  |  |
Attainment of Educational or Occupational Skills Credential |  |  |  |  |
Youth 14-18:
Attainment of Basic, Work Readiness and/or Occupational Skills |  |  |  |  |
Attainment of Secondary School Diplomas/Equivalents |  |  |  |  |
Placement and Retention in Post-Secondary Education/Training, or Placement in Military, Employment, Apprenticeships |  |  |  |  |
Participant Customer Satisfaction |  |  |  |  |
Employer Customer Satisfaction |  |  |  |  |
Additional State-Established Measures |  |  |  |  |
¹ Further guidance, including definitions of specific indicators, will be provided separately.

Attachment D

Local Planning Guidance for Single Workforce Investment Area States

I. Local Plan Submission

Section 118 of the Workforce Investment Act requires that the Board of each local workforce investment area, in partnership with the appropriate chief elected official, develop and submit a comprehensive Local Plan for activities under title I of WIA to the Governor for his or her approval. In States where there is only one local workforce investment area, the Governor serves as both the State and local Chief Elected Official. In this case, the State must submit both the State and Local Plans to the Department of Labor for review and approval. States may (1) submit their Local Plan as an attachment to the State Plan or (2) include these elements within their State Plan, and reference them in an attachment.

The State Planning Guidance on plan modifications and the plan approval process applies to a single workforce investment area State Local Plan, with one addition: The Department will approve a Local Plan within ninety days of submission, unless it is inconsistent with the Act and its implementing regulations, or deficiencies in activities carried out under the Act have been identified and the State has not made acceptable progress in implementing corrective measures. (§ 112(c).)

II. Plan Content

In the case of single workforce investment area States, much of the Local Plan information required by section 118 of WIA will be contained in the State Plan. At a minimum, single workforce investment area State Local Plans shall contain the additional information described below, and any other information that the Governor may require. For each of the questions, if the answers vary in different areas of the State, please describe those differences.

A. Plan Development Process

1. Describe the process for developing the Local Plan. Describe the process and timeline used to provide an opportunity for public comment, including how local Chief Elected Officials, representatives of businesses and labor organizations, and other appropriate partners provided input into the development of the Local Plan, prior to the submission of the Plan. (§ 118(b)(7).)

2. Include with the local Plan any comments that represent disagreement with the Plan. (§ 118(c)(3).)

B. Services

1. Describe the One-Stop system(s) that will be established in the State. Describe how the system(s) will ensure the continuous improvement of eligible providers of services and ensure that such providers meet the employment and training needs of employers, workers and job seekers throughout the State. Describe the process for the selection of One-Stop operator(s), including the competitive process used or the consortium partners. (§ 118(b)(2)(A).)

2. Describe and assess the type and availability of youth activities, including an identification of successful providers of such activities. (§ 118(b)(6).)

C. System Infrastructure

1. Identify the entity responsible for the disbursal of grant funds, as determined by the Governor. Describe how funding for areas within the State will occur. Provide a description of the relationship between the State and within-State areas regarding the sharing of costs where co-location occurs. (§ 118(b)(8).)

2. Describe the competitive process to be used to award the grants and contracts in the State for WIA title I activities. (§ 118(b)(9).)

[FR Doc. 05-7159 Filed 4-11-05; 8:45 am]

BILLING CODE 4510-30-P